DEPARTMENT OF COMMERCE

International Trade Administration

Notice of Scope Rulings

AGENCY: Enforcement and Compliance, International Trade Administration, Department of Commerce.

SUMMARY: The Department of Commerce (“Department”) hereby publishes a list of scope rulings and anticircumvention determinations made between April 1, 2015, and June 30, 2015, inclusive. We intend to publish future lists after the close of the next calendar quarter.

DATES: Effective Date: September 23, 2015.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on June 16, 2015.² This current notice covers all scope rulings and anticircumvention determinations made by Enforcement and Compliance between April 1, 2015, and June 30, 2015, inclusive. Subsequent lists will follow after the close of each calendar quarter.

¹ See 19 CFR 351.225(o).

² See Notice of Scope Rulings, 80 FR 34368 (June 16, 2015).

Scope Rulings Made Between April 1, 2015 and June 31, 2015

People's Republic of China

A-570-967 and C-570-968: Aluminum Extrusions From the People's Republic of China

Requestor: All Points Industries Inc. (“All Points”); All Points' cleats are within the scope of the orders on aluminum extrusions from the PRC because they are single-piece aluminum extrusions without accessories, attachments, fasteners, or other non-extruded parts of aluminum or any other material, and match the physical description of subject merchandise; April 2, 2015.

A-570-967 and C-570-968: Aluminum Extrusions From the People's Republic of China

Requestor: Guardian Fall Protection, Inc.; window anchors are outside the scope of the orders because they represent finished merchandise containing aluminum extrusions as parts that are fully and permanently assembled and completed at the time of entry; April 21, 2015.

A-570-967 and C-570-968: Aluminum Extrusions From the People's Republic of China

Requestor: Unger Enterprises Inc. (“Unger”); Unger's pole handles, consisting of aluminum extrusion tubes, polypropylene hand grips, polypropylene tool and accessory attachment heads, and “optiloc” plastic locking collars, are outside the scope of the orders on aluminum extrusions from the PRC under the finished goods exclusion because they are finished goods containing aluminum extrusions as parts that are fully and permanently assembled and completed at the time of entry; April 22, 2015.

A-570-967 and C-570-968: Aluminum Extrusions From the People's Republic of China

Requestor: Ikea Supply AG (“IKEA”); IKEA's cabinet/drawer handles are within the scope of the orders on aluminum extrusions from the PRC because the cabinet/drawer handles are comprised solely of an aluminum extrusion that matches the description of subject merchandise and fasteners (i.e., screws and nuts); April 27, 2015.

A-570-967 and C-570-968: Aluminum Extrusions From the People's Republic of China

Requestor: Ikea Supply AG (“IKEA”); IKEA's towel racks are within the scope of the orders on aluminum extrusions from the PRC because the towel racks are comprised solely of an aluminum extrusion that matches the description of subject merchandise and fasteners; April 27, 2015.

A-570-967 and C-570-968: Aluminum Extrusions From the People's Republic of China

Requestor: Streamlight, Inc. (“Streamlight”); Streamlight's heat sink parts for LED lamps are within the scope of the orders on aluminum extrusions from the PRC because the heat sink parts for LED lamps do not meet the two criteria to qualify for the finished heat sink exclusion from the orders; May 14, 2015.

A-570-967 and C-570-968: Aluminum Extrusions From the People's Republic of China

Requestor: TSS, Inc.; the LT-10H2 Wind Sign Frame is outside the scope of the orders because it is finished merchandise containing aluminum extrusions as parts that are fully and permanently assembled and completed at the time of entry; June 16, 2015.

A-570-899: Certain Artist Canvas From the People's Republic of China

Requestor: Suqian Langer International Trade Co., Ltd. (“Suqian Langer”); Suqian Langer's artist canvases are outside the scope of the order because the weaving and priming of the canvases, which impart the artist canvases' essential characteristics, are performed in India and not the People's Republic of China; May 26, 2015.

A-570-910 and C-570-911: Circular Welded Carbon-Quality Steel Pipe From People's Republic of China

Requestor: Unique Fire Stop Products, Inc. (UFS); Smooth Fire Stop Sleeve System products are not within the scope, which states that covered products are “generally known as standard and structural pipe.” UFS' product could not be used for the purposes for which standard or structural pipe are used; June 10, 2015.

A-570-891: Hand Trucks and Certain Parts Thereof From the People's Republic of China

Requestor: National Public Seating (NPS); NPS' Banquet Stack Chair Dolly is within the scope of the order because it possesses all the essential physical characteristics of subject hand trucks; April 6, 2015.

A-570-891: Hand Trucks and Certain Parts Thereof From the People's Republic of China

Requestor: Bond Street Ltd.; the Bond Cart Model 390008 is within the scope of the order because it possesses all the essential physical characteristics of subject hand trucks; April 22, 2015.

A-570-890: Wooden Bedroom From the People's Republic of China

Requestor: Bassett Mirror Company, Inc.; Reflections and Murano chairside chests are outside the scope of the antidumping duty order because of their limited storage space and characteristics consistent with end tables or occasional tables; April 30, 2015.

Spain

A-469-805: Stainless Steel Bar From Spain

Requestor: Rodacciai S.p.A. and Roda Specialty Steel, Inc.; Cold-finished stainless steel bar manufactured through cold-drawing and other finishing steps in Italy using stainless steel wire rod imported from Spain is not within the scope of the antidumping duty order; May 12, 2015.

A-469-807: Stainless Steel Wire Rod From Spain

Requestor: Rodacciai S.p.A. and Roda Specialty Steel, Inc.; Cold-finished stainless steel bar manufactured through cold-drawing and other finishing steps in Italy using stainless steel wire rod imported from Spain is not within the scope of the antidumping duty order; May 12, 2015.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: September 17, 2015.
Christian Marsh,
Deputy Assistant Secretary for Antidumping and Countervailing Duty Operations.

[FR Doc. 2015-24185 Filed 9-22-15; 8:45 am]

BILLING CODE 3510-DS-P